DEPARTMENT OF TRANSPORTATION

National Highway Traffic Safety Administration

49 CFR Parts 567, 571, 574, 575, and 597

[Docket No. NHTSA-03-15278]

RIN 2127-AI32

Tire Safety Information

AGENCY: National Highway Traffic Safety Administration (NHTSA), Department of Transportation.

ACTION: Final Rule; response in part to petitions for reconsideration; delay of effective date.

SUMMARY: On November 18, 2002, NHTSA published a final rule that established a new Federal Motor Vehicle Safety Standard and amended existing standards to improve the information readily available to consumers about tires. The final rule specified an effective date of September 1, 2003 for the vehicle labeling provisions. Subsequently, the agency received petitions for reconsideration of the rule. Several petitioners requested a delay of that effective date. In response to this request, this document delays the effective date for the vehicle labeling provisions of the final rule to September 1, 2004.

DATES: This rule is effective June 5, 2003. The effective date of the final rule amending 49 CFR parts 567, 571, 574, 575, and 597, published at 67 FR 69600, Nov. 18, 2002, is delayed from Sept. 1, 2003, to Sept. 1, 2004. Any petitions for reconsideration of this final rule must be received by NHTSA not later than July 21, 2003.

ADDRESSES: Petitions for reconsideration should refer to the docket number for this action and be submitted to: Administrator, National Highway Traffic Safety Administration, 400 Seventh St., SW., Washington, DC 20590.

FOR FURTHER INFORMATION CONTACT: For technical and policy issues: Ms. Mary Versailles, Office of Planning and Consumer Standards. Telephone: (202) 366-2750. Fax: (202) 493-2290. Mr. Joseph Scott, Office of Crash Avoidance Standards, Telephone: (202) 366-2720. Fax: (202) 366-4329.

For legal issues: Nancy Bell, Attorney Advisor, Office of the Chief Counsel, NCC-20. Telephone: (202) 366-2992. Fax: (202) 366-3820.

All of these persons may be reached at the following address: National Highway Traffic Safety Administration, 400 Seventh Street, SW., Washington, DC 20590.

SUPPLEMENTARY INFORMATION:

I. Final Rule

On November 18, 2002, NHTSA published a final rule that established a new Federal Motor Vehicle Safety Standard and amended existing standards to improve the information readily available to consumers about tires. (67 FR 69600)(Docket No. NHTSA-02-13678) The final rule was published in response to the Transportation Recall Enhancement, Accountability, and Documentation (TREAD) Act of 2000. It established a new Federal Motor Vehicle Safety Standard, FMVSS No. 139, New pneumatic tires for light vehicles, requiring improved labeling of tires to assist consumers in identifying tires that may be the subject of a safety recall. The final rule also required other consumer information to increase public awareness of the importance and methods of observing motor vehicle tire load limits and maintaining proper tire inflation levels for the safe operation of a motor vehicle. The final rule applies to all new and retreaded tires for use on vehicles with a gross vehicle weight rating (GVWR) of 10,000 pounds or less and to all vehicles with a GVWR of 10,000 pounds or less, except for motorcycles and low speed vehicles.

The final rule made numerous modifications to the vehicle labeling requirements. The agency made four sets of revisions to the presentation of tire inflation pressure and load limit information on the vehicle placard required for passenger cars by S4.3 of § 571.110 and to be required for all light vehicles with a GVWR of 10,000 pounds or less under this rule.¹ This placard, permanently affixed to the glove compartment door or an equally accessible location, currently displays the vehicle capacity weight, the designated seating capacity (expressed in terms of total number of occupants and in terms of occupants for each seat location), the vehicle manufacturer's recommended cold tire inflation pressure for maximum loaded vehicle weight, and the manufacturer's recommended tire size designation.

¹ FMVSS No. 120 currently requires that each motor vehicle other than a passenger car show, on the label required by § 567.4, or on a tire information label (S5.3.2(b)), the recommended tire size designation appropriate for the GAWR, the tire size and type designation of rims appropriate for those tires, and the recommended cold inflation pressure for those tires such that the sum of the load ratings on the tires on each axle (when the tire's load carrying capacity at the specified pressure is reduced by dividing 1.10, in the case of a tire subject to FMVSS No. 109, i.e., a passenger car tire) is appropriate for the GAWR.

Under the first set of revisions, the agency is requiring that tire inflation pressure information be visually separated by a red colored border from the other information on the existing vehicle placard or, alternatively, be placed on a separate tire inflation pressure label. The vehicle placard is to contain only the information specified in the adopted version of S4.3 (paragraphs (a)-(e)).² This information will not be combined with other labeling or certification requirements. The vehicle placard will also have to meet the color and content requirements as discussed below.

² (a) Vehicle capacity weight expressed as “THE COMBINED WEIGHT OF OCCUPANTS AND CARGO SHOULD NEVER EXCEED XXX POUNDS”;

(b) Designated seating capacity (expressed in terms of total number of occupants and in terms of occupant for each seat location);

(c) Vehicle manufacturer's recommended cold tire inflation pressure;

(d) Tire size designation for the tire installed as original equipment on the vehicle by the vehicle manufacturer; and

(e) “SEE OWNER'S MANUAL FOR ADDITIONAL INFORMATION”.

Second, the agency is requiring that the tire inflation pressure label and vehicle placard meet the following three requirements: (1) The tire inflation pressure information is in color—red, yellow, and black on a white background, (2) contain a black and white tire symbol icon in the upper left corner, 13 millimeters (.51 inches) wide and 14 millimeters (.55 inches) tall/high, and (3) include the phrases “Tire and Loading Information” and “Tire Information” and “See Owner's Manual For Additional Information” in yellow text on a black background.

Third, the agency is replacing the vehicle capacity weight statement on the vehicle placard with the following sentence: “[t]he combined weight of occupants and cargo should never exceed XXX kg or XXX pounds.” The “XXX” amount equals the “vehicle capacity weight” of the vehicle as defined in FMVSS No. 110. The information is the same as that currently required to be placed on the vehicle placard by manufacturers.

Fourth, the agency is replacing the vehicle's recommended tire size designation with the tire size designation for the tire installed as original equipment on the vehicle by the vehicle manufacturer. While in most instances these two numbers would be identical, this minor revision ensures that the consumer is provided with the correct tire inflation pressure information for the tire size actually installed on his vehicle as original equipment by the vehicle manufacturer. The original tire size designation and accompanying recommended inflation pressure will be indicated by the headings “original tire size” or “original size” on the placard or label.

This rule also requires that the placard or placard and label be located on the driver's side B-pillar. If a vehicle does not have a B-pillar, then the placard and label must be placed on the edge of the driver's door. If the vehicle does not have a driver's side B-pillar and the driver's side door edge is too narrow or does not exist, the placard or placard and label must be affixed to the inward facing surface of the vehicle next to the driver's seating position.

Finally, with regard to vehicle requirements, the agency is requiring that owner's manuals for light vehicles discuss the following five subject areas: (1) Tire labeling, (2) recommended tire inflation pressure, (3) glossary of tire terminology, (4) tire care, and (5) vehicle load limits. A single, reliable source containing the information listed above will aid consumers by providing the information that they need to properly maintain their tires and adhere to recommended load limits.

II. Petitions for Reconsideration

In response to the November 2002 final rule, NHTSA received petitions for reconsideration from tire and vehicle manufacturers and their associations. These petitions made requests addressing various aspects of the both tire and vehicle labeling, e.g., Tire Identification Number (TIN) placement, placement of the vehicle placard and label, content of vehicle placard and label, and effective dates for the tire and vehicle labeling provisions. This final rule will, however, only address the requests regarding the effective date for the vehicle labeling provisions scheduled under the November 2002 final rule to become effective on September 1, 2003.

In January 2003, the Alliance of Automobile Manufacturers (Alliance) and National Truck Equipment Association (NTEA) petitioned the agency to extend the effective date of the vehicle labeling provisions of the final rule. The Alliance petitioned the agency to change the effective date to September 1, 2004, or one year after addressing the issues raised in this petition, and/or issuing the final rule establishing the performance requirements of FMVSS No. 139, whichever is later. NTEA asked for an extension to September 1, 2004.

The Alliance argued that the new labeling requirements for vehicle placards, labels, and owner's manuals were complex and there was a lack of justification of urgently providing this information to customers. The Alliance concluded that it would therefore be reasonable for the agency to allow additional lead time for implementation.

More specifically, the Alliance explained that the final rule will require major changes to the end-of-line manufacturing process and associated facilities. They stated that automotive plants are not currently equipped to compute certain loading information or print a multicolored label as required by the final rule. The vehicle manufacturers will need additional time to procure equipment to print labels and install computers with extensive programming to create the interface to generate occupant and cargo weight information required on each label. NTEA expressed similar concerns about their members' ability to alter processes and acquire necessary equipment for the revised placards and labels during the provided lead time.

With regard to the new owner's manual requirements, the Alliance stated that the writing and publishing of owner's manuals is a 1-year to 2-year process. Because owner's manuals are typically completed in April or May for the following model year, the Alliance argued that the current effective date does not allow sufficient lead time to make the major changes required by the final rule to every owner's manual published.

In addition to considering the Alliance's petition, the agency met with representatives from General Motors (GM) on March 13, 2003 and Ford Motor Company (Ford) on April 22, 2003. GM echoed the Alliance's recommendations concerning the effective date. Ford briefed us in greater detail on why the 8 months lead time presents an obstacle to manufacturers. The new label contains VIN specific data, including payload, seating capacity and spare tire information, not previously required on the label. To comply with the new requirement, Ford is developing a new system and associated processes for their plants to allow them to manage the engineering data required for the label. Ford estimates that Spring 2004 is the earliest that it can have the system operational.

III. Agency Decision

After considering the Alliance's petitions and the discussions with GM and Ford, the agency is modifying the mandatory compliance date for vehicle labeling, including owner's manual requirements. The agency concurs with the Alliance, GM and Ford that manufacturers of light trucks will need to make calculations regarding occupant and cargo weights that they have not needed to make in the past. For many car lines, manufacturers will have to calculate a number of different occupant/cargo weight combinations, depending on the specific model selected by the purchaser. For car lines with a variety of placard/label possibilities, manufacturers also will have to develop processes to ensure that the correct label is applied to each vehicle as it comes off the assembly line. Unlike other rules that may entail relatively greater challenges for small manufacturers, the number of new calculations required by this final rule may be especially challenging for manufacturers with many product lines. Additionally, for all car lines, manufacturers will be required to make extensive changes to their owner's manuals and these changes typically require a longer lead time than that provided by the final rule. For these reasons, the agency is granting the Alliance's and NTEA's recommendation to extend the mandatory compliance date of the vehicle labeling provisions to September 1, 2004.

IV. Rulemaking Analyses and Notices

A. Executive Order 12866, Regulatory Planning and Review, and DOT Regulatory Policies and Procedures

Executive Order 12866, “Regulatory Planning and Review” (58 Fed. Reg. 51735; October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local or Tribal governments or communities:

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

We have considered the impact of this rulemaking action under Executive Order 12866 and the Department of Transportation's regulatory policies and procedures. This rulemaking document was not reviewed under E.O. 12866, “Regulatory Planning and Review.” Further, we have determined that this action is not “significant” within the meaning of the Department of Transportation's regulatory policies and procedures (44 FR 11034; February 26, 1979).

This final rule delays the effective date of a November 18, 2002 final rule. There are no additional costs associated with today's final rule. Additionally, there are no loss of benefits since compliance was not possible by the originally specified date.

B. Regulatory Flexibility Act

The Regulatory Flexibility Act (5 U.S.C. 601 et seq., as amended by the Small Business Regulatory Enforcement Fairness Act (SBREFA) of 1996) provides that whenever an agency is required to publish a notice of rulemaking for any proposed or final rule it must prepare and make available for public comment a regulatory flexibility analysis that describes the effect of the rule on small entities (i.e., small businesses, small organizations, and small governmental jurisdictions). However, no regulatory flexibility analysis is required if the head of an agency certifies the rule will not have a significant economic impact on a substantial number of small entities. SBREFA amended the Regulatory Flexibility Act to require Federal agencies to provide a statement of the factual basis for certifying that a rule will not have a significant economic impact on a substantial number of small entities.

In the November 18, 2002 final rule, the agency certified that that rule would not have a significant economic impact on a substantial number of small entities. Bearing that certification in mind, I have considered the effects of this rulemaking action under the Regulatory Flexibility Act (5 U.S.C. 601 et seq.) and certify that this final rule, which delays the effective date of that earlier final rule, will not have a significant economic impact on a substantial number of small entities. There are no additional costs associated with this final rule.

C. Paperwork Reduction Act

Under the Paperwork Reduction Act of 1995 (44 U.S.C. 3501 et seq.)(PRA), a person is not required to respond to a collection of information by a Federal agency unless the collection displays a valid OMB control number. Since it only delays the effective date of a final rule, this final rule does not impose any new collections of information requirements for which a 5 CFR part 1320 clearance must be obtained.

D. National Environmental Policy Act

We have analyzed this final rule for the purposes of the National Environmental Policy Act. We have determined that implementation of this action will not have any significant impact on the quality of the human environment.

E. Executive Order 13132, Federalism

Executive Order 13132 requires us to develop an accountable process to ensure “meaningful and timely input by State and local officials in the development of regulatory policies that have federalism implications.” “Policies that have federalism implications” are defined in the Executive Order to include regulations that have “substantial direct effects on the States, on the relationship between the national government and the States, or on the distribution of power and responsibilities among the various levels of government.” Under Executive Order 13132, we may not issue a regulation with Federalism implications, that imposes substantial direct compliance costs, and that is not required by statute, unless the Federal government provides the funds necessary to pay the direct compliance costs incurred by State and local governments, or unless we consult with State and local officials early in the process of developing the regulation. We also may not issue a regulation with Federalism implications and that preempts State law unless we consult with State and local officials early in the process of developing the regulation.

This final rule does not have substantial direct effects on the States, on the relationship between the national government and the States, or on the distribution of power and responsibilities among the various levels of government, as specified in Executive Order 13132. The reason is that this final rule applies to manufacturers of light vehicles and not to the States or local governments. Thus, the requirements of Section 6 of the Executive Order do not apply to this rule.

F. Civil Justice Reform

This final rule does not have any retroactive effect. Under 49 U.S.C. 30103(b), whenever a Federal motor vehicle safety standard is in effect, a state or political subdivision may prescribe or continue in effect a standard applicable to the same aspect of performance of a motor vehicle only if the standard is identical to the Federal standard. However, the United States Government, a state or political subdivision of a state may prescribe a standard for a motor vehicle or motor vehicle equipment obtained for its own use that imposes a higher performance requirement than that required by the Federal standard. 49 U.S.C. 30161 sets forth a procedure for judicial review of final rules establishing, amending or revoking Federal motor vehicle safety standards. A petition for reconsideration or other administrative proceedings is not required before parties may file suit in court.

G. Unfunded Mandates Reform Act

Section 202 of the Unfunded Mandates Reform Act of 1995 (UMRA) requires Federal agencies to prepare a written assessment of the costs, benefits and other effects of proposed or final rules that include a Federal mandate likely to result in the expenditure by State, local or tribal governments, in the aggregate, or by the private sector, of more than $100 million in any one year (adjusted for inflation with base year of 1995). Before promulgating a NHTSA rule for which a written statement is needed, section 205 of the UMRA generally requires us to identify and consider a reasonable number of regulatory alternatives and adopt the least costly, most cost-effective or least burdensome alternative that achieves the objectives of the rule. The provisions of section 205 do not apply when they are inconsistent with applicable law. Moreover, section 205 allows us to adopt an alternative other than the least costly, most cost-effective or least burdensome alternative if we publish with the final rule an explanation why that alternative was not adopted.

This final rule will not result in costs of $100 million or more to either State, local, or tribal governments, in the aggregate, or to the private sector. Thus, this final rule is not subject to the requirements of sections 202 and 205 of the UMRA.

H. Executive Order 13045—Economically Significant Rules Disproportionately Affecting Children

Executive Order 13045 (62 FR 19885; April 23, 1997) applies to any rule that: (1) is determined to be “economically significant” as defined under E.O. 12866, and (2) concerns an environmental, health or safety risk that NHTSA has reason to believe may have a disproportionate effect on children. If the regulatory action meets both criteria, we must evaluate the environmental, health or safety effects of the rule on children, and explain why the regulation is preferable to other potentially effective and reasonably feasible alternatives considered by us.

This rule is not subject to the Executive Order because it is not economically significant as defined in E.O. 12866.

I. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Authority: 49 U.S.C. 322, 30111, 30115, 30117, and 30166; delegation of authority at 49 CFR 1.50.

Issued: May 30, 2003.
Stephen R. Kratzke,
Associate Administrator for Rulemaking.

[FR Doc. 03-14160 Filed 6-4-03; 8:45 am]

BILLING CODE 4910-59-P